DEPARTMENT OF AGRICULTURE

Rural Utilities Service

[Docket #: RUS-22-ELECTRIC-0011]

Badger State Solar, LLC; Notice of Availability of a Draft Environmental Impact Statement and Notice of Public Meeting

AGENCY: Rural Utilities Service, USDA.

ACTION: Notice of availability of a draft environmental impact statement and notice of public meeting.

SUMMARY: The Rural Utilities Service (RUS) announces that a Draft Environmental Impact Statement (EIS) for a project proposed by Badger State Solar, LLC is available for public review and comment. RUS is publishing the Draft EIS to inform interested parties and the general public about the project proposal and to invite the public to comment on the scope, Proposed Action, and other issues addressed in the Draft EIS. The Draft EIS was prepared in accordance with the National Environmental Policy Act of 1969 (NEPA), as amended, Council on Environmental Quality (CEQ) regulations for implementing the procedural provisions of NEPA, and RUS, Environmental Policies and Procedures and evaluates the potential direct, indirect, and cumulative environmental effects related to providing financial assistance for the Badger State Solar, LLC's Alternating Current solar project (Project). Badger State Solar intends to request financial assistance from RUS for the Proposed Action and information contained in the EIS will serve as a basis for the decision regarding whether to provide the requested financial assistance. RUS has determined that its action regarding the Proposed Action is an undertaking subject to review under Section 106 of the National Historic Preservation Act and its implementing regulation, “Protection of Historic Properties” and as part of its broad environmental review process, RUS must take into account the effect of the Proposed Action on historic properties. With this notice, RUS invites any affected federal, state, and local agencies, Tribes, and other interested persons to comment on the scope, alternatives, and significant issues to be analyzed in depth in the EIS.

DATES: Written comments on this Draft EIS must be received during the comment period, which begins March 4th and ends April 18th. A public meeting to solicit comments on the Draft EIS will be held in a virtual format on Tuesday, March 22nd, at 7 p.m. EST via Zoom. Written comments may be submitted via email to BadgerStateSolarEIS@usda.gov or by mail as noted in the FOR FURTHER INFORMATION CONTACT section of this notice.

Those wishing to attend the meeting are invited to register online at the virtual public meeting room website https://badgerstatesolar.consultation.ai. An email will be sent to registrants with information for how to access the meeting. Attendees will be able to provide oral and written comments during the meeting. Oral comments from the public will be recorded by a certified court reporter. The virtual public meeting room is an interactive website which will be available throughout the public comment period. Attendees will also be able to submit written comments through the virtual public meeting room website. All comments submitted during the public review period, oral or written, will become part of the public record. Before including your address, telephone number, email address, or other personal identifying information in your comment, you should be aware that your entire comment—including your personal identifying information—may be made publicly available at any time. All comments will be reviewed and responded to in the Final EIS. For consideration in the Final EIS, comments must be postmarked or received online by 11:59 p.m. EST on Monday, April 18th.

ADDRESSES: The Draft EIS and other Project-related information is available at RUS's and Badger State Solar's websites located at: https://www.rd.usda.gov/resources/environmental-studies/impact-statements, https://badgerstatesolar.consultation.ai, and https://www.badgerstatesolar.com.

In addition, hard copies of the documents are available at the Jefferson Public Library in Jefferson, WI, the Cambridge Community Library in Cambridge, WI and the Lake Mills Library in Lake Mills, WI. Parties wishing to be placed on the mailing list for future information or to receive hard or electronic copies of the EIS should also contact the person contact below.

FOR FURTHER INFORMATION CONTACT: Questions can be directed to Peter Steinour, 202-961-6140, BadgerStateSolarEIS@usda.gov during the open comment period. Comments submitted after the comment period may not be considered by the agency. This email address may also be used to request consulting party status and to inquire about additional information.

Written comments may also be submitted by mail to United States Department of Agriculture, Attention: Peter Steinour, Mail Stop 1570, Rural Utilities Service, WEP/EES, 1400 Independence Ave. SW, Washington, DC 20250 during the open comment period. Comments submitted after the comment period may not be considered by the agency. This mail address may also be used to request consulting party status and to inquire about additional information.

Project-related information will be available at RUS's and Badger State Solar's websites located at: https://www.rd.usda.gov/resources/environmental-studies/impact-statements, https://badgerstatesolar.consultation.ai, and https://www.badgerstatesolar.com.

Due to the COVID-19 pandemic, electronic communication is preferred because delivery of hard copies by mail may not be delivered in a timely manner.

SUPPLEMENTARY INFORMATION:

1. Agencies Involved and Status

Rural Utilities Service, Lead Agency

United States Army Corps of Engineers, Consulting Party for Section 106

United States Fish and Wildlife Service, Participating Agency

2. Project Description and Location

Badger State Solar proposes to construct, install, operate, and maintain a 149-megawatt photovoltaic Alternating Current solar energy generating facility on a site in the Townships of Jefferson and Oakland, in Jefferson County, Wisconsin. The Proposed Action involves approximately 1,200 acres located on the north and south sides of U.S. Highway 18, approximately 2-miles west of the City of Jefferson and west of State Highway 89. Site land cover is predominantly agricultural crops and pasture, with some forest and wetland. Bader State Solar estimates the total project cost will be approximately $225,000,000. Project construction would begin in October 2022. Construction would be complete and the project would be expected to come online by Fall 2023.

Construction involves the installation on leased lands of 487,848 single-axis tracking PV panels. The PV panels would be mounted on a steel racking frame. Supporting facilities include an electrical substation. The lease agreement allows for an operating period of 40 years. A power purchase agreement (PPA) has been executed with Dairyland Power Cooperative for the entire output of the Project. The proposed site is near the point of interconnection to the grid at the American Transmission Company Jefferson substation near the intersection of State Trunk Highway 89 and U.S. Highway 18.

Construction equipment would include graders, bulldozers, excavators, forklifts, trailers, plows, trenchers, pile drivers, and directional boring rigs. Vehicles for transporting construction materials and components primarily would be legal load over-the road flatbed and box trucks. Transport would use existing regional roads, bridges, and intersections. Laydown areas would be established within the Project site. Internal site access roads would be required. The site would be fenced.

3. Purpose and Need for the Action

The Rural Electrification Act of 1936 (REA), as amended (7 U.S.C. 901 et seq.) authorizes the Secretary of Agriculture to make rural electrification and telecommunication loans, and specifies eligible borrowers, references, purposes, terms and conditions, and security requirements. RUS is authorized to make loans and loan guarantees to finance the construction of electric distribution, transmission, and generation facilities, including system improvements and replacements required to furnish and improve electric service in rural areas, as well as demand-side management, electricity conservation programs, and on- and off-grid renewable electricity systems.

The Applicant intends to request financing assistance from RUS for the Project's 149-MW solar array in Jefferson County, Wisconsin. RUS's proposed federal action is to decide whether to provide financing assistance for the Project.

As part of its review process, RUS is required to complete the NEPA process along with other technical and financial considerations in processing the Applicant's application. RUS agency actions include the following:

1. Provide engineering reviews of the purpose and need, engineering feasibility, and cost of the Project.

2. Ensure that the Project meets the borrower's requirements and prudent utility practices.

3. Evaluate the financial ability of the borrower to repay its potential financial obligations to RUS.

4. Ensure that NEPA and other environmental laws and requirements and RUS environmental policies and procedures are satisfied prior to taking a federal action.

While RUS is authorized under REA to finance electric generation infrastructure in rural areas, it is the Midcontinent Independent System Operator, Inc. (MISO), not RUS, who is responsible for electric grid planning. Supporting renewable energy projects meets both RUS's goal to support infrastructure development in rural communities and USDA's support of the June 2013 Climate Action Plan, which encourages voluntary actions to increase energy independence.

The Applicant's purpose and need for the Proposed Action is to develop a utility-scale solar facility in Jefferson County, Wisconsin, to replace load demand on local utilities, including Dairyland Power, resulting from coal-fired power plant closures or scheduled decommissioning.

4. Issues of Concern

In the EIS, the effects of the proposal are compared to the existing conditions in the affected area of the proposal. Issues of concern evaluated in the EIS include soils and geology, water resources, air quality, acoustic environment, biological resources, land resources, visual resources, transportation, cultural resources, site contamination public health and safety, socioeconomics, and environmental justice.

Badger State has submitted an Application for a Certificate of Public Convenience and Necessity (CPCN) to the Public Service Commission of Wisconsin (PSC). Consultations have been conducted with the Wisconsin Department of Natural Resources (WDNR) and an endangered resource review (ER) has been submitted to the agency. Consultations with other agencies include the Federal Aviation Administration (FAA), Natural Resources Conservation Service (NRCS), U.S. Environmental Protection Agency (USEPA), and informal consultation with the U.S. Fish and Wildlife Service (USFWS). Badger State has consulted property owners, local town and county officials and staff, state elected representatives, Wisconsin Department of Agriculture Trade and Consumer Protection, and engaged the general public.

The USFWS concurred that the proposed project may affect, but is not likely to adversely affect, whooping crane. The USFWS concurred that Project minimization measures during constriction are expected to avoid or minimize disturbance to the whooping cranes and that minor loss of stopover and feeding habitat would not be likely to negatively impact the species. Additionally, the USFWS concurred that the Project is consistent with activities analyzed in the Programmatic Biological Opinion for the northern long-eared bat. Finally, the USFWS provided guidance on National Bald Eagle Management Guidelines and incidental take permits, recommendations for site selection and layout, and recommendations for project construction.

5. Alternatives To Be Considered

Potential locations for development of the solar facility in Wisconsin were evaluated in an initial preliminary site review to identify locations where electric transmission infrastructure would be sufficient to connect a solar project to the power grid. The Site Selection Study consisted of three phases of evaluation which began with 18 potential sites and ended with the identification of the proposed site in Jefferson County as the most feasible for consideration. The potential impacts of the No Action Alternative and the Proposed Action, construction of the Badger State Solar project in Jefferson County, Wisconsin, are analyzed in detail.

6. Overview of the Scoping Process

RUS is using its procedures for public involvement under NEPA to meet its responsibilities to solicit and consider the views of the public during Section 106 review. Accordingly, comments submitted in response to this Notice will inform RUS decision-making during Section 106 review. As noted in the Federal Register notice announcing the intent to prepare an EIS on October 5, 2021, the RUS invited any interested party wishing to participate directly with the agency as a “consulting party” in Section 106 review may submit a written request to the RUS contact provided below. Pursuant to 36 CFR 800.3(f)(3), RUS will consider, and provide a timely response to, any and all requests for consulting party status.

The Notice of Intent (NOI) to prepare the Badger State Solar EIS and to hold a virtual public scoping meeting was published in the Federal Register on October 5, 2021, initiating the 30-day public scoping period. The NOI also announced a virtual public scoping meeting held on October 26. The NOI is provided in the Scoping Report. In addition to the NOI, a notice was published in the Daily Jefferson County Union and Watertown Daily Times newspapers published on October 6, 7, and 8, 2021.

The NOI and other project information (including the Alternative Evaluation and Site Selection Studies) was available for review on the RUS and Badger State Solar websites (https://www.rd.usda.gov/resources/environmental-studies/impact-statements, https://badgerstatesolar.consultation.ai, and https://www.badgerstatesolar.com) and also at the following locations (Jefferson Public Library in Jefferson, WI; the Cambridge Community Library in Cambridge, WI and the Lake Mills Library in Lake Mills, WI).

RUS hosted the virtual public scoping meeting on October 26. RUS also hosted an interagency meeting on October 28. In addition to the public involvement process described above, Badger State Solar consulted with the Wisconsin Department of Natural Resources (WDNR) and an endangered resource review has been submitted to the agency. Badger State Solar also consulted with the Federal Aviation Administration (FAA), property owners, local town and county officials and staff, state elected representatives, and Wisconsin Department of Agriculture Trade and Consumer Protection. RUS has initiated consultation with the Wisconsin State Historic Preservation Officer (SHPO), Natural Resources Conservation Service (NRCS), and informal consultation with the U.S. Fish and Wildlife Service (USFWS). RUS initiated informal consultation with the USFWS in a letter dated October 15, 2021. USFWS concurred with the finding that the Proposed Action may affect, but is not likely to adversely affect listed or proposed species or designated critical habitat in an email dated December 21, 2021. A summary of the scoping process and public input is provided in the Draft EIS.

7. Decision Process

The Draft EIS will be available for review and comment for 45 days. Following the 45-day review period, RUS will prepare a Final EIS. All comments received on the Draft EIS will be duly considered in preparing the Final EIS, which is expected to be available by August 2022. The availability of the Final EIS for public review will be announced in the Federal Register and the local newspapers used in previous public notices. After publication of the Final EIS a Record of Decision (ROD) will be prepared documenting the Agency's decision regarding Badger State Solar's request for financial assistance. Notices announcing the availability of the ROD will be published in the Federal Register and in local newspapers.

Any final action by RUS related to the proposal will be subject to, and contingent upon, compliance with all relevant executive orders and federal, state, and local environmental laws and regulations in addition to the completion of the environmental review requirements as prescribed in RUS Environmental Policies and Procedures, 7 CFR part 1970.

Christopher A. McLean,
Acting Administrator, Rural Utilities Service, U.S. Department of Agriculture.

[FR Doc. 2022-04203 Filed 2-28-22; 8:45 am]

BILLING CODE 3410-15-P